SECURITIES AND EXCHANGE COMMISSION

[File No. 500-1]

In the Matter of InferX Corp., and Sedona Corp.; Order of Suspension of Trading

May 12, 2015.

It appears to the Securities and Exchange Commission that there is a lack of current and accurate information concerning the securities of InferX Corp. (CIK No. 1329548), a void Delaware corporation with its principal place of business listed as Tysons Corner, Virginia, with stock quoted on OTC Link (previously, “Pink Sheets”) operated by OTC Markets Group, Inc. (“OTC Link”) under the ticker symbol NFRX, because it has not filed any periodic reports since the period ended September 30, 2012. On May 23, 2014, InferX received a delinquency letter sent by the Division of Corporation Finance requesting compliance with their periodic filing obligations.

It appears to the Securities and Exchange Commission that there is a lack of current and accurate information concerning the securities of Sedona Corp. (CIK No. 764843), a Pennsylvania corporation with its principal place of business listed as King of Prussia, Pennsylvania, with stock quoted on OTC Link under the ticker symbol SDNA, because it has not filed any periodic reports since the period ended March 31, 2010. On January 28, 2013, Sedona received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 12, 2015, through 11:59 p.m. EDT on May 26, 2015.

By the Commission.
Jill M. Peterson,
Assistant Secretary.

[FR Doc. 2015-11751 Filed 5-12-15; 4:15 pm]

BILLING CODE 8011-01-P